DEPARTMENT OF THE INTERIOR

Fish and Wildlife Service

[FWS-R8-ES-2018-N086; FXES11130800000-178-FF08E00000]

Endangered and Threatened Species; Receipt of Recovery Permit Applications

AGENCY: Fish and Wildlife Service, Interior.

ACTION: Notice of receipt of permit applications; request for comments.

SUMMARY: We, the U.S. Fish and Wildlife Service, have received applications for permits to conduct activities intended to enhance the propagation or survival of endangered or threatened species under the Endangered Species Act. We invite the public and local, State, Tribal, and Federal agencies to comment on these applications. Before issuing any of the requested permits, we will take into consideration any information that we receive during the public comment period.

DATES: We must receive your written comments on or before October 24, 2018.

ADDRESSES: Document availability and comment submission: Submit requests for copies of the applications and related documents and submit any comments by one of the following methods. All requests and comments should specify the applicant name(s) and application number(s) (e.g., TEXXXXXX).

• Email: permitsr8es@fws.gov.

• U.S. Mail: Daniel Marquez, Endangered Species Program Manager, U.S. Fish and Wildlife Service, Region 8, 2800 Cottage Way, Room W-2606, Sacramento, CA 95825.

FOR FURTHER INFORMATION CONTACT: Daniel Marquez, via phone at 760-431-9440, via email at permitsr8es@fws.gov, or via the Federal Relay Service at 1-800-877-8339 for TTY assistance.

SUPPLEMENTARY INFORMATION: We, the U.S. Fish and Wildlife Service, invite the public to comment on applications for permits under section 10(a)(1)(A) of the Endangered Species Act, as amended (ESA; 16 U.S.C. 1531 et seq.). The requested permits would allow the applicants to conduct activities intended to promote recovery of species that are listed as endangered or threatened under the ESA.

Background

With some exceptions, the ESA prohibits activities that constitute take of listed species unless a Federal permit is issued that allows such activity. The ESA's definition of “take” includes such activities as pursuing, harassing, trapping, capturing, or collecting in addition to hunting, shooting, harming, wounding, or killing.

A recovery permit issued by us under section 10(a)(1)(A) of the ESA authorizes the permittee to conduct activities with endangered or threatened species for scientific purposes that promote recovery or for enhancement of propagation or survival of the species. These activities often include such prohibited actions as capture and collection. Our regulations implementing section 10(a)(1)(A) for these permits are found in the Code of Federal Regulations at 50 CFR 17.22 for endangered wildlife species, 50 CFR 17.32 for threatened wildlife species, 50 CFR 17.62 for endangered plant species, and 50 CFR 17.72 for threatened plant species.

Permit Applications Available for Review and Comment

Proposed activities in the following permit requests are for the recovery and enhancement of propagation or survival of the species in the wild. The ESA requires that we invite public comment before issuing these permits. Accordingly, we invite local, State, Tribal, and Federal agencies and the public to submit written data, views, or arguments with respect to these applications. The comments and recommendations that will be most useful and likely to influence agency decisions are those supported by quantitative information or studies.

Application No. | Applicant, city, state | Species | Location | Activity | Type of take | Permit action
TE-082237 | California State Parks, San Luis Obispo Coast District, San Simeon, California | • Morro shoulderband snail (Banded dune) (Helminthoglypta walkeriana) | CA | Survey | Capture, handle, and release | Renew.
|  | • Morro Bay kangaroo rat (Dipodomys heermanni morroensis)
TE-13703B | California Living Museum, Bakersfield, California | • Arroyo toad (arroyo southwestern) (Anaxyrus californicus (Bufo microscaphus c.)) • Mountain yellow-legged frog (southern California DPS) (Rana muscosa) | CA | Rehabilitation, public education, public display, captive propagation, research | Collect and acquire injured and/or sick animals, captive rear, perform general husbandry, release healthy individuals, and retain animals unfit for reintroduction | Renew.
|  | • California tiger salamander (Sonoma County and Santa Barbara DPS) (Ambystoma californiense)
|  | • Blunt-nosed leopard lizard (Gambelia silus)
|  | • California condor (Gymnogyps californianus)
|  | • Riparian brush rabbit (Sylvilagus bachmani riparius)
|  | • Morro Bay kangaroo rat (Dipodomys heermanni morroensis)
|  | • Tipton kangaroo rat (Dipodomys nitratoides nitratoides)
|  | • Giant kangaroo rat (Dipodomys ingens)
|  | • Stephens' kangaroo rat (Dipodomys stephensi)
|  | • Fresno kangaroo rat (Dipodomys nitratoides exilis)
|  | • Riparian woodrat (=San Joaquin Valley) (Neotoma fuscipes riparia)
|  | • San Joaquin kit fox (Vulpes macrotis mutica)
|  | • Sierra Nevada bighorn (Ovis canadensis sierrae)
|  | • Nelson bighorn (Peninsular Ranges DPS, Peninsular bighorn sheep) (Ovis canadensis nelsoni)
TE-79190C | Ryan Lopez, Fresno, California | • Fresno kangaroo rat (Dipodomys nitratoides exilis), | CA | Survey | Capture, handle, release, and collect vouchers | New.
|  | • Tipton kangaroo rat (Dipodomys nitratoides nitratoides)
|  | • Giant kangaroo rat (Dipodomys ingens)
|  | • California tiger salamander (Santa Barbara County and Sonoma County Distinct Population Segment (DPS)) (Ambystoma californiense)
|  | • Conservancy fairy shrimp (Branchinecta conservatio)
|  | • Longhorn fairy shrimp (Branchinecta longiantenna)
|  | • San Diego fairy shrimp (Branchinecta sandiegonensis)
|  | • Riverside fairy shrimp (Streptocephalus woottoni)
|  | • Vernal pool tadpole shrimp (Lepidurus packardi)
TE-206822 | Brian Shomo, Lake Elsinore, California | • Stephens' kangaroo rat (Dipodomys stephensi) | CA | Survey | Capture, handle, and release | Renew.
TE-781084 | Anita Hayworth, Encinitas, California | • Southwestern willow flycatcher (Empidonax traillii extimus) | CA | Survey | Capture, handle, release, collect vouchers | Renew.
|  | • Quino checkerspot butterfly (Euphydryas editha quino)
|  | • Conservancy fairy shrimp (Branchinecta conservatio)
|  | • Longhorn fairy shrimp (Branchinecta longiantenna)
|  | • San Diego fairy shrimp (Branchinecta sandiegonensis)
|  | • Riverside fairy shrimp (Streptocephalus woottoni)
|  | • Vernal pool tadpole shrimp (Lepidurus packardi)
TE-80906C | Katherine Smith, Fairfield, California | • Salt marsh harvest mouse (Reithrodontomys raviventris) | CA | Survey, population monitoring, genetic studies, toxicology studies | Capture, handle, mark, install cameras, collect fur samples | New.
TE-67570A | Brett Hanshew, Oakland, California | • San Francisco garter snake (Thamnophis sirtalis tetrataenia) | CA | Invasive species management | Perform bullfrog control | Amend.
TE-094845 | Matthew Bettelheim, Concord, California | • California tiger salamander (Santa Barbara County and Sonoma County Distinct Population Segment (DPS)) (Ambystoma californiense) | CA | Survey | Capture, handle, and release | Renew.
TE-90002A | Todd Wong, Elk Grove, California | • Conservancy fairy shrimp (Branchinecta conservatio) | CA | Survey | Capture, handle, release, and collect vouchers | Renew.
|  | • longhorn fairy shrimp (Branchinecta longiantenna)
|  | • San Diego fairy shrimp (Branchinecta sandiegonensis)
|  | • Riverside fairy shrimp (Streptocephalus woottoni)
|  | • Vernal pool tadpole shrimp (Lepidurus packardi)
TE-13691B | Christine Zack, Campbell, California | • San Bernardino Merriam's kangaroo rat (Dipodomys merriami parvus), | CA | Survey | Capture, handle, and release | Renew.
|  | • Stephens' kangaroo rat (Dipodomys stephensi)
TE-769304 | Jeffrey Halstead, Clovis, California | • Fresno kangaroo rat (Dipodomys nitratoides exilis)
|  | • Tipton kangaroo rat (Dipodomys nitratoides nitratoides) | CA | Survey | Capture, handle, and release | Renew.
|  | • California tiger salamander (Santa Barbara County and Sonoma County Distinct Population Segment (DPS)) (Ambystoma californiense)
TE-02578B | Craig Seltenrich, Auburn, California | • California tiger salamander (Santa Barbara County and Sonoma County Distinct Population Segment (DPS)) (Ambystoma californiense) | CA | Survey | Capture, handle, and release | Renew.
TE-799564 | Sycamore Environmental Consultants, Inc., Sacramento, California | • Conservancy fairy shrimp (Branchinecta conservatio) • Longhorn fairy shrimp (Branchinecta longiantenna) | CA | Survey | Capture, handle, release, and collect vouchers | Renew.
|  | • San Diego fairy shrimp (Branchinecta sandiegonensis)
|  | • Riverside fairy shrimp (Streptocephalus woottoni)
|  | • Vernal pool tadpole shrimp (Lepidurus packardi)
TE-795934 | ICF Jones & Stokes, Inc., Sacramento, California | • Conservancy fairy shrimp (Branchinecta conservatio). | CA | Survey | Capture, handle, release, and collect vouchers | Renew.
|  | • Longhorn fairy shrimp (Branchinecta longiantenna)
|  | • San Diego fairy shrimp (Branchinecta sandiegonensis)
|  | • Riverside fairy shrimp (Streptocephalus woottoni)
|  | • Vernal pool tadpole shrimp (Lepidurus packardi)
|  | • Southwestern willow flycatcher (Empidonax traillii extimus)
|  | • California tiger salamander (Santa Barbara County and Sonoma County Distinct Population Segment (DPS)) (Ambystoma californiense)
TE-96514A | Jonathan Aguayo, Buena Park, California | • Southwestern willow flycatcher (Empidonax traillii extimus) | CA | Survey | Survey | Amend.
TE-21700B | Diana Grosso, Bakersfield, California | • Tipton kangaroo rat (Dipodomys nitratoides nitratoides)
|  | • Giant kangaroo rat (Dipodomys ingens) | CA | Survey and transport | Capture, handle, release, and transport injured individuals | Renew and amend.
|  | • San Joaquin kit fox (Vulpes macrotis mutica)
TE-829554 | Barbara Kus, San Diego, California | • Southwestern willow flycatcher (Empidonax traillii extimus) | CA | Education | Conduct educational workshops | Amend.
TE-148556 | Deborah Van Dooremolen, Las Vegas, Nevada | • Southwestern willow flycatcher (Empidonax traillii extimus) | NV | Survey | Survey | Renew.
|  | • Yuma clapper rail (Yuma Ridgway's r.) (Rallus longirostris yumanensis) (R. obsoletus y.)
TE-020548 | U.S. Geological Survey, Vallejo, California | • Salt marsh harvest mouse (Reithrodontomys raviventris) • California Clapper rail (California Ridgway's r.) (Rallus longirostris obsoletus) (R. obsoletus o.) • Yuma clapper rail (Yuma Ridgway's r.) (Rallus longirostris yumanensis) (R. obsoletus y.) | CA | Survey and research | Capture, handle, mark, take fur samples, band, radio-tag, collect blood, collect feathers, candle eggs, salvage eggs, salvage carcasses, release | Renew.
TE-64144A | Emily Mastrelli, San Diego, California | • Conservancy fairy shrimp (Branchinecta conservatio), | CA | Survey | Capture, handle, release, collect vouchers | Amend.
|  | • Longhorn fairy shrimp (Branchinecta longiantenna)
|  | • San Diego fairy shrimp (Branchinecta sandiegonensis)
|  | • Riverside fairy shrimp (Streptocephalus woottoni)
|  | • Vernal pool tadpole shrimp (Lepidurus packardi)
TE-085026 | Jeff Steinman, San Francisco, California | • Southwestern willow flycatcher (Empidonax traillii extimus) | CA | Survey | Survey | Renew.
TE-221295 | Angelica Mendoza, Fontana, California | • Conservancy fairy shrimp (Branchinecta conservatio) | CA | Survey | Capture, handle, release, collect vouchers | Amend.
|  | • Longhorn fairy shrimp (Branchinecta longiantenna)
|  | • San Diego fairy shrimp (Branchinecta sandiegonensis)
|  | • Riverside fairy shrimp (Streptocephalus woottoni)
|  | • Vernal pool tadpole shrimp (Lepidurus packardi)
TE-166383 | Bureau of Land Management, Hollister, California | • Blunt-nosed leopard lizard (Gambelia silus) | CA | Survey and genetic studies | Capture, handle, collect tissue, release | Renew.
TE-29658A | Cindy Dunn, San Diego, California | • Quino checkerspot butterfly (Euphydryas editha quino) | CA | Survey | Survey | Renew.
TE-115373 | Darin Busby, San Diego, California | • Quino checkerspot butterfly (Euphydryas editha quino) | CA | Survey | Capture, handle, release, collect vouchers | Renew.
|  | • San Diego fairy shrimp (Branchinecta sandiegonensis)
|  | • Riverside fairy shrimp (Streptocephalus woottoni)
TE-85074C | U.S. Geological Survey, Dixon, California | • California Clapper rail (California Ridgway's r.) (Rallus longirostris obsoletus) (R. obsoletus o.) | CA | Monitor, research studies, and translocation | Capture, handle, band, radio-tag, monitor nests, collect blood, collect feathers, candle eggs, float eggs, translocate, transport, salvage eggs, salvage carcasses, and release | New.
TE-802450 | Arthur Davenport, Barstow, California | • Least Bell's vireo (Vireo belli pusillus) • Southwestern willow flycatcher (Empidonax traillii extimus) | CA, NV, OR, WA, ID, AZ, NM, UT, CO, TX, WY | Survey and population monitoring | Survey, nest monitor, capture, handle, and release | Renew.
|  | • Yuma clapper rail (Yuma Ridgway's r.) (Rallus longirostris yumanensis) (R. obsoletus y.)
|  | • Light-footed clapper rail (light-footed Ridgway's r.) (Rallus longirostris levipes) (R. obsoletus l.)
|  | • Quino checkerspot butterfly (Euphydryas editha quino)
|  | • San Bernardino Merriam's kangaroo rat (Dipodomys merriami parvus)
|  | • Stephens' kangaroo rat (Dipodomys stephensi)
|  | • Pacific pocket mouse (Perognathus longimembris pacificus)
|  | • Arroyo toad (arroyo southwestern) (Anaxyrus californicus)
|  | • Desert pupfish (Cyprinodon macularius)
TE-101154 | Douglas Rischbieter, Arnold, California | • Tidewater goby (Eucyclogobius newberryi) | CA | Survey and genetic studies | Capture, handle, collect vouchers for genetic analysis, release | Renew.
TE-85084C | Dustin Brown, Orangevale, California | • Conservancy fairy shrimp (Branchinecta conservatio) | CA | Survey | Capture, handle, release, collect vouchers | New.
|  | • Longhorn fairy shrimp (Branchinecta longiantenna)
|  | • San Diego fairy shrimp (Branchinecta sandiegonensis)
|  | • Riverside fairy shrimp (Streptocephalus woottoni)
|  | • Vernal pool tadpole shrimp (Lepidurus packardi)
|  | • California tiger salamander (Santa Barbara County and Sonoma County Distinct Population Segment (DPS)) (Ambystoma californiense)
TE-068189 | Archaeological Consulting Services, Tempe Arizona | • Southwestern willow flycatcher (Empidonax traillii extimus) • Yuma clapper rail (Yuma Ridgway's r.) (Rallus longirostris yumanensis) (R. obsoletus y.) | NV | Survey | Survey | Renew.
TE-844852 | U.S. Geological Survey, Point Reyes, California | • Sierra Nevada yellow-legged frog (Rana sierrae) • mountain yellow-legged frog ((northern California DPS) (Rana muscosa)) | CA | Survey, research studies, salvage | Capture, handle, take skin swabs, clip toes, insert PIT (Passive Integrated Transponder) tags, emergency salvage, collect vouchers, and release | Renew.
TE-15544A | Christine Beck, San Diego, California | • Least Bell's vireo (Vireo bellii pusillus) | CA | Survey and population monitoring | Nest monitor, capture, handle, band, and release | Renew.
|  | • California least tern (Sternula antillarum browni) (Sterna a. browni)
TE-829204 | Harry Jones, Cobb, California | • Southwestern willow flycatcher (Empidonax traillii extimus) | CA | Survey | Survey | Renew.
TE-095858 | Arianne Preite, Orange, California | • Conservancy fairy shrimp (Branchinecta conservatio) | CA | Survey | Capture, handle, release, and collect vouchers | Renew.
|  | • Longhorn fairy shrimp (Branchinecta longiantenna)
|  | • San Diego fairy shrimp (Branchinecta sandiegonensis)
|  | • Riverside fairy shrimp (Streptocephalus woottoni)
|  | • Vernal pool tadpole shrimp (Lepidurus packardi)
|  | • Southwestern willow flycatcher (Empidonax traillii extimus)
|  | • Light-footed clapper rail (light-footed Ridgway's r.) (Rallus longirostris levipes) (R. obsoletus l.)
|  | • Quino checkerspot butterfly (Euphydryas editha quino)
TE-233332 | Maya Mazon, Oceanside, California | • Quino checkerspot butterfly (Euphydryas editha quino) | CA | Survey | Survey | Renew.
TE-800777 | Jepson Prairie Reserve Docents, Davis, California | • Conservancy fairy shrimp (Branchinecta conservatio) | CA | Survey and public education | Capture, handle, release, collect vouchers | Renew.
|  | • Vernal pool tadpole shrimp (Lepidurus packardi)
TE-009926 | Gulf South Research Corporation, Baton Rouge, Louisiana | • Sierra Nevada yellow-legged frog (Rana sierrae) | CA, AZ, NM, TX | Survey | Capture, handle, and release | Renew and amend.
|  | • Arroyo toad (arroyo southwestern) (Anaxyrus californicus)
|  | • Southwestern willow flycatcher (Empidonax traillii extimus)
TE-012137 | Fort Hunter Liggett, Fort Hunter Liggett, California | • Arroyo toad (arroyo southwestern) (Anaxyrus californicus) | CA | Emergency salvage | Capture, temporarily hold in captivity, relocate, and salvage | Amendment.
TE-85350C | Scott Demers, McKinleyville, California | • California Clapper rail (California Ridgway's r.) (Rallus longirostris obsoletus) (R. obsoletus o.) | CA | Survey | Survey | New.
TE-063427 | Sarah Powell, Sacramento, California | • Conservancy fairy shrimp (Branchinecta conservatio) • Longhorn fairy shrimp (Branchinecta longiantenna) • San Diego fairy shrimp (Branchinecta sandiegonensis) • Riverside fairy shrimp (Streptocephalus woottoni) • Vernal pool tadpole shrimp (Lepidurus packardi) | CA | Survey | Capture, handle, release, collect vouchers | Renew.
TE-017549 | Mary Whitfield, Weldon, California | • Southwestern willow flycatcher (Empidonax traillii extimus) • Least Bell's vireo (Vireo belli pusillus) | CA, NV, AZ, NM | Survey, population monitoring, research studies, and public educational workshops | Nest monitor, capture, handle, band, collect blood, collect feathers, film, conduct educational workshops | Renew and amend.

Public Availability of Comments

Written comments we receive become part of the administrative record associated with this action. Before including your address, phone number, email address, or other personal identifying information in your comment, you should be aware that your entire comment—including your personal identifying information—may be made publicly available at any time. While you can request in your comment that we withhold your personal identifying information from public review, we cannot guarantee that we will be able to do so. All submissions from organizations or businesses, and from individuals identifying themselves as representatives or officials of organizations or businesses, will be made available for public disclosure in their entirety.

Next Steps

If we decide to issue permits to any of the applicants listed in this notice, we will publish a notice in the Federal Register.

Authority

We publish this notice under section 10(c) of the Endangered Species Act of 1973, as amended (16 U.S.C. 1531 et seq.).

Karen Jensen,
Acting Regional Director, Pacific Southwest Region, Sacramento, California.

[FR Doc. 2018-20656 Filed 9-21-18; 8:45 am]

BILLING CODE 4333-15-P